INTERNATIONAL TRADE COMMISSION

[Investigation Nos. 701-TA-437 and 731-TA-1060-1061 (Second Review)]

Carbazole Violet Pigment 23 From China and India; Determinations

On the basis of the record ¹ developed in the subject five-year reviews, the United States International Trade Commission (“Commission”) determines, pursuant to the Tariff Act of 1930, that revocation of the countervailing duty order on carbazole violet pigment 23 from India and revocation of the antidumping duty orders on carbazole violet pigment 23 from China and India would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on April 1, 2015 (80 FR 17943) and determined on July 6, 2015 that it would conduct expedited reviews (80 FR 43119, July 21, 2015).

The Commission made these determinations pursuant to section 751(c) of the Tariff Act of 1930 (19 U.S.C. 1675(c)). It completed and filed its determinations in these reviews on November 2, 2015. The views of the Commission are contained in USITC Publication 4575 (November 2015), entitled Carbazole Violet Pigment 23 from China and India: Investigation Nos. 701-TA-437 and 731-TA-1060-1061 (Second Review).

By order of the Commission.
Issued: November 2, 2015.
Lisa R. Barton,
Secretary to the Commission.

[FR Doc. 2015-28301 Filed 11-5-15; 8:45 am]

BILLING CODE 7020-02-P